ENVIRONMENTAL PROTECTION AGENCY

[FRL-7253-1]

Agency Information Collection Activities: Submission for OMB Review; Comment Request, National Emissions Standards for Hazardous Air Pollutant Emissions for Polyether Polyol Production

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emissions Standards for Hazardous Air Pollutants (NESHAP) for Polyether Polyols Production, OMB Control Number 2060-0415, expiration date July 31, 2002. The ICR describes the nature of the information collection and its expected burden and cost; where appropriate, it includes the actual data collection instrument.

DATES: Comments must be submitted on or before August 30, 2002.

ADDRESSES: Send comments, referencing EPA ICR Number 1811.03 and OMB Control Number 2060-0415, to the following addresses: Susan Auby, United States Environmental Protection Agency, Collection Strategies Division (Mail Code 2822T), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR, contact Susan Auby at EPA by phone at (202) 566-1672, by E-Mail at auby.susan@epa.gov or download off the Internet at http://www.epa.gov/icr and refer to EPA ICR Number.1811.03. For technical questions about the ICR, contact Sandra Jones at EPA, Office of Compliance at 202-564-7038, by E-Mail at jones.sandra@epa.gov.

SUPPLEMENTARY INFORMATION: Title: National Emissions Standards for Hazardous Air Pollutant Emissions for Polyether Polyol Production, OMB Control Number 2060-0415, EPA ICR Number 1811.03, expiration date July 31, 2002.

Abstract: The National Emissions Standards for Hazardous Air Pollutants for Polyether Polyols production, (40 CFR part 63 subpart PPP) was proposed on June 1, 1999 and published January 30, 2002. These regulations apply to new and existing facilities that engage in the manufacture of polyether polyols (which also include polyether mono-ols) and emit hazardous air pollutants (GAP). Owners or operators of polyester polyols production facilities to which this regulation is applicable must choose one of the compliance options described in the rule or install and monitor a specific control system that reduces HAP emissions to the compliance level. The respondents are also subject to sections of Subpart A relating to NESHAP.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 30, 2002. No comments were received.

Burden Statement: The annual public reporting and recordkeeping burden for this collection of information is estimated to average 248 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Polyester Polyol Plants.

Estimated Number of Respondents: 82.

Frequency of Response: Semi-annually, Annually, and Initially.

Estimated Total Annual Hour Burden: 88,680.

Estimated Total Annualized Capital, O&M Cost Burden: $513,051.

Send comments on the Agency's need for this information, the accuracy of the provided burden estimates, and any suggested methods for minimizing respondent burden, including through the use of automated collection techniques to the addresses listed above. Please refer to EPA ICR Number 1811.03 and OMB Control Number 2060-0415 in any correspondence.

Dated: July 23, 2002.
Oscar Morales,
Director, Collection Strategies Division.

[FR Doc. 02-19322 Filed 7-30-02; 8:45 am]

BILLING CODE 6560-50-P